DEPARTMENT OF ENERGY

Federal Energy Regulatory Commission

Combined Notice of Filings #1

Take notice that the Commission received the following electric corporate filings:

Docket Numbers: EC24-124-000.

Applicants: Richland Township Solar, LLC, BCD 2024 Fund 4 Lessee, LLC.

Description: Joint Application for Authorization Under Section 203 of the Federal Power Act of Richland Township Solar, LLC, et al.

Filed Date: 9/26/24.

Accession Number: 20240926-5189.

Comment Date: 5 p.m. ET 10/17/24.

Take notice that the Commission received the following exempt wholesale generator filings:

Docket Numbers: EG24-301-000.

Applicants: Blackford Solar Energy, LLC.

Description: Blackford Solar Energy, LLC submits Notice of Self-Certification of Exempt Wholesale Generator Status.

Filed Date: 9/30/24.

Accession Number: 20240930-5065.

Comment Date: 5 p.m. ET 10/21/24.

Docket Numbers: EG24-302-000.

Applicants: Blackford Wind Energy, LLC.

Description: Blackford Wind Energy, LLC submits Notice of Self-Certification of Exempt Wholesale Generator Status.

Filed Date: 9/30/24.

Accession Number: 20240930-5068.

Comment Date: 5 p.m. ET 10/21/24.

Docket Numbers: EG24-303-000.

Applicants: Kearsarge Riverpark I LLC.

Description: Kearsarge Riverpark I LLC submits Notice of Self-Certification of Exempt Wholesale Generator Status.

Filed Date: 9/30/24.

Accession Number: 20240930-5197.

Comment Date: 5 p.m. ET 10/21/24.

Docket Numbers: EG24-304-000.

Applicants: Rocking R Solar, LLC.

Description: Notice of Self-Certification of Exempt Wholesale Generator Status of Rocking R Solar, LLC.

Filed Date: 9/30/24.

Accession Number: 20240930-5249.

Comment Date: 5 p.m. ET 10/21/24.

Docket Numbers: EG24-305-000.

Applicants: Speedway Solar, LLC.

Description: Speedway Solar, LLC submits Notice of Self-Certification of Exempt Wholesale Generator Status.

Filed Date: 9/30/24.

Accession Number: 20240930-5268.

Comment Date: 5 p.m. ET 10/21/24.

Take notice that the Commission received the following electric rate filings:

Docket Numbers: ER10-2997-008; ER10-1048-028; ER10-1143-027; ER10-2172-031; ER10-3018-008; ER10-3030-008.

Applicants: Potomac Electric Power Company, Delmarva Power & Light Company, Baltimore Gas and Electric Company, PECO Energy Company, Commonwealth Edison Company, Atlantic City Electric Company.

Description: Notice of Non-Material Change in Status of Atlantic City Electric Company et al.

Filed Date: 9/27/24.

Accession Number: 20240927-5289.

Comment Date: 5 p.m. ET 10/18/24.

Docket Numbers: ER17-259-005.

Applicants: Darby Power, LLC.

Description: Compliance filing: Darby Schedule 2 Informational Filing to be effective 8/1/2018.

Filed Date: 9/30/24.

Accession Number: 20240930-5255.

Comment Date: 5 p.m. ET 10/21/24.

Docket Numbers: ER17-260-005.

Applicants: Gavin Power, LLC.

Description: Compliance filing: Gavin Reactive Rate Informational Filing to be effective 8/1/2018.

Filed Date: 9/30/24.

Accession Number: 20240930-5272.

Comment Date: 5 p.m. ET 10/21/24.

Docket Numbers: ER18-1182-011.

Applicants: System Energy Resources, Inc.

Description: Compliance filing: SERI Compliance (ER18-1182 et al.) to be effective 6/1/2024.

Filed Date: 9/30/24.

Accession Number: 20240930-5242.

Comment Date: 5 p.m. ET 10/21/24.

Docket Numbers: ER24-2661-001.

Applicants: Rpower, LLC.

Description: Tariff Amendment: Amendment to RPower, LLC Application For Market Based Rate Authority to be effective 10/1/2024.

Filed Date: 9/30/24.

Accession Number: 20240930-5174.

Comment Date: 5 p.m. ET 10/21/24.

Docket Numbers: ER24-3138-000.

Applicants: Midcontinent Independent System Operator, Inc.

Description: 205(d) Rate Filing: 2024-09-27_Att. FF, CTA Reform to be effective 11/27/2024.

Filed Date: 9/27/24.

Accession Number: 20240927-5286.

Comment Date: 5 p.m. ET 10/18/24.

Docket Numbers: ER24-3139-000.

Applicants: New England Power Pool Participants Committee.

Description: 205(d) Rate Filing: Oct 2024 Membership Filing to be effective 9/1/2024.

Filed Date: 9/30/24.

Accession Number: 20240930-5058.

Comment Date: 5 p.m. ET 10/21/24.

Docket Numbers: ER24-3140-000.

Applicants: PJM Interconnection, L.L.C.

Description: 205(d) Rate Filing: Original GIA Service Agreement No. 7374; AG1-040 to be effective 8/29/2024.

Filed Date: 9/30/24.

Accession Number: 20240930-5104.

Comment Date: 5 p.m. ET 10/21/24.

Docket Numbers: ER24-3141-000.

Applicants: Midcontinent Independent System Operator, Inc.

Description: 205(d) Rate Filing: 2024-09-30_State Regulatory Authority for the Council of the City of New Orleans to be effective 11/30/2024.

Filed Date: 9/30/24.

Accession Number: 20240930-5116.

Comment Date: 5 p.m. ET 10/21/24.

Docket Numbers: ER24-3142-000.

Applicants: Escalante Solar I, LLC.

Description: Initial rate filing: Filing of Shared Facilities Agreement to be effective 11/30/2024.

Filed Date: 9/30/24.

Accession Number: 20240930-5118.

Comment Date: 5 p.m. ET 10/21/24.

Docket Numbers: ER24-3143-000.

Applicants: Escalante Solar II, LLC.

Description: Initial rate filing: Certificate of Concurrence to be effective 11/30/2024.

Filed Date: 9/30/24.

Accession Number: 20240930-5130.

Comment Date: 5 p.m. ET 10/21/24.

Docket Numbers: ER24-3144-000.

Applicants: Escalante Solar III, LLC.

Description: Initial rate filing: Certificate of Concurrence to be effective 11/30/2024.

Filed Date: 9/30/24.

Accession Number: 20240930-5132.

Comment Date: 5 p.m. ET 10/21/24.

Docket Numbers: ER24-3145-000.

Applicants: Arizona Public Service Company.

Description: Tariff Amendment: Service Agreement No. 419—Notice of Cancellation to be effective 11/30/2024.

Filed Date: 9/30/24.

Accession Number: 20240930-5133.

Comment Date: 5 p.m. ET 10/21/24.

Docket Numbers: ER24-3146-000.

Applicants: Blackford Solar Energy, LLC.

Description: Baseline eTariff Filing: Market-Based Rate Application to be effective 11/30/2024.

Filed Date: 9/30/24.

Accession Number: 20240930-5161.

Comment Date: 5 p.m. ET 10/21/24.

Docket Numbers: ER24-3147-000.

Applicants: PacifiCorp.

Description: 205(d) Rate Filing: Construction Agreement Hurricane_JOOA (RS No. 789) to be effective 12/30/2024.

Filed Date: 9/30/24.

Accession Number: 20240930-5163.

Comment Date: 5 p.m. ET 10/21/24.

Docket Numbers: ER24-3148-000.

Applicants: Blackford Wind Energy, LLC.

Description: Baseline eTariff Filing: Market-Based Rate Application to be effective 11/30/2024.

Filed Date: 9/30/24.

Accession Number: 20240930-5165.

Comment Date: 5 p.m. ET 10/21/24.

Docket Numbers: ER24-3149-000.

Applicants: Hoosier Line Energy, LLC.

Description: Baseline eTariff Filing: Market-Based Rate Application to be effective 11/30/2024.

Filed Date: 9/30/24.

Accession Number: 20240930-5167.

Comment Date: 5 p.m. ET 10/21/24.

Docket Numbers: ER24-3150-000.

Applicants: Rocking R Solar, LLC.

Description: Baseline eTariff Filing: Application for Market-Based Rate Authority to be effective 11/30/2024.

Filed Date: 9/30/24.

Accession Number: 20240930-5196.

Comment Date: 5 p.m. ET 10/21/24.

Docket Numbers: ER24-3151-000.

Applicants: Speedway Solar, LLC.

Description: Baseline eTariff Filing: Application for Market-Based Rate Authority to be effective 11/30/2024.

Filed Date: 9/30/24.

Accession Number: 20240930-5200.

Comment Date: 5 p.m. ET 10/21/24.

Docket Numbers: ER24-3152-000.

Applicants: PJM Interconnection, L.L.C.

Description: 205(d) Rate Filing: Amendment to ISA, Service Agreement No. 6958; Queue No. AE2-256 to be effective 11/30/2024.

Filed Date: 9/30/24.

Accession Number: 20240930-5208.

Comment Date: 5 p.m. ET 10/21/24.

Docket Numbers: ER24-3153-000.

Applicants: The Connecticut Light and Power Company.

Description: Baseline eTariff Filing: The Connecticut Light and Power Company Wholesale Distribution Tariff to be effective 12/1/2024.

Filed Date: 9/30/24.

Accession Number: 20240930-5223.

Comment Date: 5 p.m. ET 10/21/24.

Docket Numbers: ER24-3154-000.

Applicants: NSTAR Electric Company.

Description: Baseline eTariff Filing: NSTAR Electric Company Wholesale Distribution Tariff to be effective 12/1/2024.

Filed Date: 9/30/24.

Accession Number: 20240930-5231.

Comment Date: 5 p.m. ET 10/21/24.

Docket Numbers: ER24-3155-000.

Applicants: PJM Interconnection, L.L.C.

Description: Tariff Amendment: Notice of Cancellation—WMPA Service Agreement No. 5992; Queue No. AE2-055 to be effective 11/30/2024.

Filed Date: 9/30/24.

Accession Number: 20240930-5245.

Comment Date: 5 p.m. ET 10/21/24.

Docket Numbers: ER24-3156-000.

Applicants: Caballero CA Storage, LLC.

Description: Baseline eTariff Filing: Application for Market Based Rate Authority to be effective 10/1/2024.

Filed Date: 9/30/24.

Accession Number: 20240930-5267.

Comment Date: 5 p.m. ET 10/21/24.

Docket Numbers: ER24-3157-000.

Applicants: Duke Energy Carolinas, LLC.

Description: 205(d) Rate Filing: DEC-PEMC SA No. 368 to be effective 11/1/2024.

Filed Date: 9/30/24.

Accession Number: 20240930-5271.

Comment Date: 5 p.m. ET 10/21/24.

Take notice that the Commission received the following electric securities filings:

Docket Numbers: ES24-61-000.

Applicants: DTE Electric Company.

Description: Application Under Section 204 of the Federal Power Act for Authorization to Issue Securities of DTE Electric Company.

Filed Date: 9/27/24.

Accession Number: 20240927-5292.

Comment Date: 5 p.m. ET 10/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 30, 2024.
Debbie-Anne A. Reese,
Acting Secretary.

[FR Doc. 2024-23045 Filed 10-4-24; 8:45 am]

BILLING CODE 6717-01-P